DEPARTMENT OF TRANSPORTATION

Federal Railroad Administration

Environmental Impact Statement for the California High-Speed Train Project From San Jose to Merced, CA

AGENCY: Federal Railroad Administration (FRA), Department of Transportation (DOT).

ACTION: Notice of Intent to Prepare an Environmental Impact Statement.

SUMMARY: This notice is to advise the public that FRA and the California High-Speed Rail Authority (Authority) will jointly prepare a project Environmental Impact Statement (EIS) and project Environmental Impact Report (EIR) for the San Jose to Merced section of the Authority's proposed California High-Speed Train (HST) System in compliance with relevant state and federal laws, in particular the National Environmental Policy Act (NEPA) and the California Environmental Quality Act (CEQA).

In 2005, the Authority and FRA completed the first tier California High Speed Train Program EIR/EIS and approved the statewide HST system for intercity travel in California between the major metropolitan centers of Sacramento and the San Francisco Bay Area in the north, through the Central Valley, to Los Angeles and San Diego in the south. The approved HST system would be about 800-miles long, with electric propulsion and steel-wheel-on-steel-rail trains capable of maximum operating speeds of 220 miles per hour (mph) on a mostly dedicated system of fully grade-separated, access-controlled steel tracks and with state-of-the-art safety, signaling, communication, and automated train control systems. In approving the HST system, the Authority and FRA also selected preferred corridor alignments and station location options throughout most of the system. In 2008, the Authority and FRA completed a second program EIR/EIS to evaluate alignments and station locations within the broad corridor between and including the Altamont Pass and the Pacheco Pass to connect the Bay Area and Central Valley portions of the HST system. The Authority and FRA selected the Pacheco Pass with San Francisco and San Jose termini network alternative, as well as preferred corridor alignments and station location options. The selected alignment uses the Caltrain rail right-of-way, between San Francisco and San Jose along the San Francisco Peninsula, through the Pacheco Pass and via Henry Miller Road, between San Jose and the Central Valley.

The preparation of the San Jose to Merced HST Project EIR/EIS will involve development of preliminary engineering designs and assessment of environmental effects associated with the construction, operation, and maintenance of the HST system, including track, ancillary facilities and a Gilroy station, along the Caltrain/UPRR corridor from San Jose to Gilroy, through the Pacheco Pass, and via Henry Miller Road in the Central Valley.

DATES: Written comments on the scope of the San Jose to Merced HST Project EIR/EIS should be provided to the Authority by April 10, 2009. Public scoping meetings are scheduled from March 18, 2009 to March 26, 2009, as noted below in Santa Clara and Merced Counties.

ADDRESSES: Written comments on the scope of this EIR/EIS should be sent to Mr. Dan Leavitt, Deputy Director, ATTN: San Jose to Merced, California High-Speed Rail Authority, 925 L Street, Suite 1425, Sacramento, CA 95814, or via e-mail with subject line “San Jose to Merced HST” to: comments@hsr.ca.gov. Comments may also be provided orally or in writing at the scoping meetings scheduled at the following locations:

• Merced Community Senior Center, 755 W. 15th Street, Merced, California, March 18 from 3 p.m. to 7 p.m. (joint meeting with the Bakersfield to Merced Section)

• Roosevelt Community Center, Community Room B, 901 E Santa Clara Street, San Jose, California, March 25, 2009 from 3 p.m. to 7 p.m.

• Gilroy Hilton Garden Inn Harvest Room, 6070 Monterey Road, Gilroy, California, March 26, 2009 from 3 p.m. to 7 p.m.

FOR FURTHER INFORMATION CONTACT: Mr. David Valenstein, Environmental Program Manager, Office of Railroad Development, Federal Railroad Administration, 1200 New Jersey Avenue, SE. (Mail Stop 20), Washington, DC 20590; Telephone: (202) 493-6368, or Mr. Dan Leavitt, Telephone: (916) 324-1541 at the above noted address.

SUPPLEMENTARY INFORMATION: The Authority was established in 1996 and is authorized and directed by statute to undertake the planning and development of a proposed statewide HST network that is fully coordinated with other public transportation services. The Authority adopted a Final Business Plan in June 2000, which reviewed the economic feasibility of an 800-mile-long HST capable of speeds in excess of 200 miles per hour on a dedicated, fully grade-separated state-of-the-art track. The Authority released an updated Business Plan in November 2008.

The FRA has responsibility for oversight of the safety of railroad operations, including the safety of any proposed high-speed ground transportation system. For the proposed HST, it is anticipated that FRA would need to take certain regulatory actions prior to operation.

In 2005, the Authority and FRA completed a Final Program EIR/EIS for the Proposed California High Speed Train System (Statewide Program EIR/EIS), as the first phase of a tiered environmental review process. The Authority certified the Final Program EIR under CEQA and approved the proposed HST System, and FRA issued a Record of Decision under NEPA on the Final Program EIS. This statewide program EIR/EIS established the purpose and need for the HST system, analyzed an HST system, and compared it with a No Project/No Action Alternative and a Modal Alternative. In approving the statewide program EIR/EIS, the Authority and FRA selected the HST Alternative, selected certain corridors/general alignments and general station locations for further study, incorporated mitigation strategies and design practices, and specified further measures to guide the development of the HST system at the site-specific project level of environmental review to avoid and minimize potential adverse environmental impacts. In the subsequent Bay Area to Central Valley HST Final Program EIR/EIS, the Authority and FRA selected as the preferred alternative the Caltrain/UPRR corridor between San Jose and Gilroy to connect with the San Francisco to San Jose section, and the Pacheco Pass and Henry Miller Road corridor from Gilroy to Merced to connect with the Central Valley section of the HST system.

The San Jose to Merced HST Project EIR/EIS will tier from the Final Statewide Program EIR/EIS and the Final Bay Area to Central Valley HST Program EIR/EIS in accordance with Council on Environmental Quality (CEQ) regulations, (40 CFR 1508.28) and State CEQA Guidelines (14 C.C.R. Sec. 15168[b]). Tiering will ensure that the San Jose to Merced HST Project EIR/EIS builds upon all previous work prepared for and incorporated in the Statewide Program EIR/EIS and the Bay Area to Central Valley HST Program EIR/EIS.

This Project EIR/EIS will describe site-specific environmental impacts; will identify specific mitigation measures to address those impacts; and will incorporate design practices to avoid and minimize potential adverse environmental impacts. The FRA and the Authority will assess the site characteristics, size, nature, and timing of proposed site-specific projects to determine whether the impacts are potentially significant and whether impacts can be avoided or mitigated. This project EIR/EIS will identify and evaluate reasonable and feasible site-specific alignment alternatives, and evaluate the impacts from construction, operation, and maintenance of the HST system. Information and documents regarding this HST environmental review process will be made available through the Authority's Internet site: http://www.cahighspeedrail.gov/.

Purpose and Need: The purpose of the proposed HST system is to provide a new mode of high-speed intercity travel that would link major metropolitan areas of the state; interface with international airports, mass transit, and highways; and provide added capacity to meet increases in intercity travel demand in California in a manner sensitive to and protective of California's unique natural resources. The need for a high-speed train (HST) system is directly related to the expected growth in population, and increases in intercity travel demand in California over the next twenty years and beyond. With the growth in travel demand, there will be an increase in travel delays arising from the growing congestion on California's highways and at airports. In addition, there will be negative effects on the economy, quality of life, and air quality in and around California's metropolitan areas from a transportation system that will become less reliable as travel demand increases. The intercity highway system, commercial airports, and conventional passenger rail serving the intercity travel market are currently operating at or near capacity, and will require large public investments for maintenance and expansion to meet existing demand and future growth.

Alternatives: The San Jose to Merced HST Project EIR/EIS will consider a No Action or No Project Alternative and an HST Alternative for the San Jose to Merced corridor.

No Action Alternative: The No Action Alternative (No Project or No Build) represents the conditions in the corridor as it existed in 2007, and as it would exist based on programmed and funded improvements to the intercity transportation system and other reasonably foreseeable projects through 2035, taking into account the following sources of information: State Transportation Improvement Program (STIP), Regional Transportation Plans (RTPs) for all modes of travel, airport plans, intercity passenger rail plans, city and county plans.

HST Alternative: The Authority proposes to construct, operate and maintain an electric-powered steel-wheel-on-steel-rail HST system, about 800 miles long, capable of operating speeds of 220 mph on mostly dedicated, fully grade-separated tracks, with state-of-the-art safety, signaling, and automated train control systems. The San Jose to Merced HST corridor selected by the Authority and FRA and the subject of this Project EIR/EIS generally follows the Caltrain/UPRR corridor from San Jose to Gilroy. From Gilroy, the corridor extends east through the Pacheco Pass generally following State Route 152 and then along Henry Miller Road across the valley floor to connect with the Merced to Bakersfield section of the HST system.

Further engineering studies will be undertaken as part of this EIR/EIS process that will examine design options along the Caltrain/UPRR corridor and possible use of portions of parallel transportation corridors. Alignment refinements in the Pacheco Pass area potentially locating the HST line closer to State Route 152 will be reviewed to determine their practicality and their ability to reduce environmental impacts. Alignment variations along Henry Miller Road (both to the north and south) will be identified and evaluated for the purpose of minimizing or avoiding impacts to resources in the Grasslands Ecological Area (GEA).

The entire alignment would be grade separated. The options to be considered for the design of grade-separated roadway crossings would include (1) depressing the street to pass under the rail line; (2) elevating the street to pass over the rail line; (3) leaving the street as-is and constructing rail line improvements to pass over or under the local street; and (4) street closure, if appropriate. In addition, alternative sites for right-of-way maintenance, train storage facilities and a train service and inspection facility will be evaluated in the San Jose to Merced HST project area.

The preferred station location in the City of Gilroy is the current Caltrain Station. This location was selected by the Authority and FRA through the Bay Area to Central Valley HST Final Program EIR/EIS considering the project purpose and need, and the program objectives. Alternative station sites at or near the preferred location may be identified and evaluated in this Project EIR/EIS. There will be no station between Gilroy and Merced and no maintenance and storage facilities considered in the Los Banos area (or in the vicinity of the GEA).

Probable Effects: The purpose of the EIR/EIS process is to explore in a public setting the effects of the proposed project on the physical, human, and natural environment. The FRA and the Authority will continue the tiered evaluation of all significant environmental, social, and economic impacts of the construction and operation of the HST system. Impact areas to be addressed include transportation impacts; safety and security; land use and zoning; agricultural land impacts, land acquisition, displacements, and relocations; cumulative and secondary impacts; cultural resource impacts, including impacts on historical and archaeological resources and parklands/recreation areas; neighborhood compatibility and environmental justice; and natural resource impacts including air quality, wetlands, water resources, noise, vibration, energy, wildlife and ecosystems, including endangered species. Measures to avoid, minimize, and mitigate adverse impacts will be identified and evaluated.

The San Jose to Merced HST Project EIR/EIS will be prepared in accordance with FRA's Procedures for Considering Environmental Impacts (64 FR 28545 [May 26, 1999]) and will address not only NEPA and CEQA but also other applicable statutes, regulations, and executive orders, including the Clean Air Act, Section 404 of the Clean Water Act, Section 106 of the National Historic Preservation Act of 1966, Section 4(f) of the Department of Transportation Act, the Endangered Species Act, and Executive Order 12898 on Environmental Justice.

This EIR/EIS process will continue the NEPA/Clean Water Act Section 404 integration process established through the Statewide Program EIR/EIS process. The EIR/EIS will evaluate project alignment alternatives, station and maintenance facility locations to support a determination of the Least Environmentally Damaging Practicable Alternative (“LEDPA”) by the U.S. Army Corps of Engineers.

Scoping and Comments: FRA encourages broad participation in the EIS process during scoping and review of the resulting environmental documents. Comments are invited from all interested agencies and the public to ensure the full range of issues related to the proposed action and reasonable alternatives are addressed and all significant issues are identified. In particular, FRA is interested in determining whether there are areas of environmental concern where there might be a potential for significant site-specific impacts. Public agencies with jurisdiction are requested to advise FRA and the Authority of the applicable permit and environmental review requirements of each agency, and the scope and content of the environmental information that is germane to the agency's statutory responsibilities in connection with the proposed project. Public agencies are requested to advise FRA if they anticipate taking a major action in connection with the proposed project and if they wish to cooperate in the preparation of the Project EIR/EIS. Public scoping meetings have been scheduled as an important component of the scoping process for both the State and Federal environmental review. The scoping meetings described in this Notice will also be the subject of additional public notification.

FRA is seeking participation and input of all interested Federal, State, and local agencies, Native American groups, and other concerned private organizations and individuals on the scope of the EIR/EIS. Implementation of the San Jose to Merced section of the HST system is a federal undertaking with the potential to affect historic properties. As such, it is subject to the requirements of section 106 of the National Historic Preservation Act of 1966 (16 U.S.C. 470f). In accordance with regulations issued by the Advisory Council on Historic Preservation, 36 CFR part 800, FRA intends to coordinate compliance with section 106 of this Act with the preparation of the EIR/EIS, beginning with the identification of consulting parties through the scoping process, in a manner consistent with the standards set out in 36 CFR 800.8.

Issued in Washington, DC, on March 9, 2009.
Ray LaHood,
Secretary, U.S. Department of Transportation.

[FR Doc. E9-5573 Filed 3-13-09; 8:45 am]

BILLING CODE 4910-06-P